DEPARTMENT OF DEFENSE

Department of the Air Force

[Docket ID: USAF-2011-0008]

Privacy Act of 1974; System of Records

AGENCY: Department of the Air Force, DoD.

ACTION: Notice To Alter a System of Records.

SUMMARY: The Department of the Air Force is proposing to alter a system of records notice in its existing inventory of records systems subject to the Privacy Act of 1974, (5 U.S.C. 552a), as amended.

DATES: The changes will be effective on April 4, 2011 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles Shedrick at (703) 696-6488, or Department of the Air Force Privacy Office, Air Force Privacy Act Office, Office of Warfighting Integration and Chief Information officer, ATTN: SAF/CIO A6, 1800 Air Force Pentagon, Washington DC 20330-1800.

SUPPLEMENTARY INFORMATION: The Department of the Air Force's notices for systems of records subject to the Privacy Act of 1974 (5 U.S.C. 552a), as amended, have been published in the Federal Register and are available from the FOR FURTHER INFORMATION CONTACT address above.

The proposed systems reports, as required by 5 U.S.C. 552a(r) of the Privacy Act, were submitted on February 25, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: March 1, 2011.
Morgan F. Park,
Alternate OSD Federal Register Liaison Officer, Department of Defense.

F011 AF XO A

System name:

Aviation Resource Management System (ARMS) (December 26, 2002, 67 FR 78777).

Changes:

* * * * *

System location:

Delete entry and replace with “Headquarters United States Air Force (HQ USAF) and USAF Major Command Headquarters. Host, tenant and squadron Aviation Resource Management offices at Air Force installations. Official mailing addresses are published as an appendix to the Air Force's compilation of record systems notices.”

Categories of individuals covered by the system:

Delete entry and replace with “Air Force active duty military personnel, Air Force civilian employees, or contractors, Air Force Reserve and Air National Guard personnel, Army, Navy, Marine Corps and foreign military personnel who are assigned to aviation or parachutist duties by competent authority and attached to the U.S. Air Force (USAF) for flying or parachutist support or who have been suspended from flying or jump duties for a period of not more than 5 years.”

Categories of records in the system:

Delete entry and replace with “The Aviation Resource Management System (ARMS) data base contains a master file of flying and jump records for each individual, a month-to-date transaction file, a twelve month history file, and a career flying and jump history. A centralized file of output reports that provide personnel information on an aircrew member's aviation history, flight time and identification data, is derived from each individual's master record and is also maintained at Headquarters United States Air Force.

An Individual Flight Record Folder (FRF) or Jump Record Folder (JRF) is established for each category of flier and jumper listed above and is the prime repository for a computer listing which itemizes each individual's flight and jump accomplishments as well as various source documents which serve to validate information entered into the computer data base for the system. Each Host Aviation Resource Management (HARM) office maintains a file of Aeronautical Orders and Military Pay Orders to provide source documentation of flying pay actions initiated by the flight manager. Information that is maintained in the automated files is derived directly from the ARMS master file or from subsequent processing of information entered into the master file.

Identification data consists of:

Name, Social Security Number (SSN), date of birth, rank, date of rank, date of separation, officer service date, aviation service date, date of enlistment, and unit of assignment for each individual in the Aviation Resource Management System.

Duty assignment data:

Individual's major command of assignment, Air Force specialty code indicating professional duties, unit, responsible operations system manager, base of assignment, branch of service and office symbol.

Aircrew training and qualification data:

Flight and ground professional flying training accomplishments, aircrew qualification status, physical status for flight duties, types of aircraft assigned.

Flying pay entitlement data:

Monthly flight time, aviation service code, operational flying duty accumulation (OFDA) months and years of rated service collectively to determine flight pay entitlement and to administer the payment of flying incentive pay for authorized individuals.”

Authority for maintenance of the system:

Delete entry and replace with “37 U.S.C. 301a, Incentive Pay: aviation career; Public Law 92-204, Appropriations Act for 1973; Section 715 Public Law 93-570, Appropriations Act for 1974; Public Law 93-294, Aviation Career Incentive Act of 1974; DoD Instruction 7730.57, Aviation Incentive Pays and Continuation Bonus Program; and E.O. 9397 (SSN), as amended.”

Purpose(s):

Delete entry and replace with “The ARMS provides information and automated data processing capabilities used to handle and administer Air Force aviation and parachutist management operations such as aircrew and parachutist training and evaluation, flight and jump scheduling functions, flying and parachutist safety and related functions needed to attain and maintain combat or mission readiness. This information is processed for use by flying or parachutist resource managers at all levels through periodic computer product reports or automated systems interfaces.

The specific uses of information and user categories for this system are:

Base Level Activities:

(1) To establish each member's flying or jump pay entitlement status and to monitor continuing entitlement in accordance with existing directives;

(2) To record each individual's flying or jump activities to include hours, jumps, and specific events, and to provide indications of successful achievement of standards or deficiencies;

(3) To establish each individual's Aviation Service code to indicate type of flying or jump activity or reason for inactive status if applicable;

(4) To determine each rated member's eligibility to perform operational flying or jumping in accordance with existing USAF directives;

(5) To provide an indication of each rated member's total operational flying time in terms of total aviation or parachutist career duties;

(6) To establish suspense lists for use in scheduling flying personnel for flights, schools, tests and similar events directly related to their duties as professional Airmen;

(7) To provide each applicable individual and manager with all aviation career profile information needed to monitor flying career development, professional qualifications, and training deficiencies;

(8) To provide information requested by the Air Force Staff, major command, or other base functions, related to the flying duties and accomplishments of all personnel in the file;

(9) To provide statistical data for management analysis and review of all aspects of each base's flying program.

Other Base Users:

Military personnel flight uses information provided by this system, through an automated data interface, to report the flying status of all individuals and to provide flying career background information used for assignment actions.

Accounting and Finance Office uses Military Pay Orders, prepared by flight aviation management offices, to start and stop flying and jump incentive pay in accordance with each individual's flying status and eligibility as reflected by the information in the system and uses the files to perform payment audits to identify individuals being paid improperly.

Base supply uses flying status information to determine which individuals are qualified to receive authorized flying and jump equipment.

Base Medical Facility uses system data to determine projected workloads associated with scheduled flight physical examinations.

Major Commands use all system data to measure the effectiveness of subordinate unit training programs and to review command-wide flying effectiveness.

Air Force Personnel Center uses ARMS information to satisfy assignment objectives and career development programs for USAF military personnel in the system.

HQ USAF uses identification and flying data to: establish statistical data needed to verify the effectiveness of standard procedures, determine the need for policy modification, provide a timely and accurate census of various types of flyers and jumpers, and provide a centralized point for collection and collation of data used by all levels of management.”

* * * * *

Storage:

Delete entry and replace with “File folders and electronic storage media.”

Safeguards:

Delete entry and replace with “Records are accessed by custodians of the record system, by person(s) responsible for servicing the record system in performance of their official duties and by authorized personnel who are properly screened and cleared for need-to-know. Access is specifically controlled by the HARM office. Records are stored in locked cabinets or rooms. Records stored in computer storage devices are protected by computer system software. Computer terminals are locked when not in use or kept under surveillance.”

Retention and disposal:

Delete entry and replace with “Electronic records are maintained on magnetic disks and destroyed 8 years after system discontinuance. If a disk is damaged or replaced, the drive is rendered unusable by being degaussed. Physical records are released to members upon retirement or separation. Members hand-carry their physical record, during permanent change of stations, to the gaining HARM while an electronic copy is retained by the losing HARM and set to automatically delete after 30 days. Physical records are turned over to convening authorities following aircraft accidents and are either returned to the HARM or retained in accordance with rules of evidence.”

* * * * *

F011 AF XO A

System name:

Aviation Resource Management System (ARMS).

System location:

Headquarters United States Air Force (HQ USAF) and Major Command Headquarters. Host, tenant and squadron Aviation Resource Management offices at Air Force installations. Official mailing addresses are published as an appendix to the Air Force's compilation of record systems notices.

Categories of individuals covered by the system:

Air Force active duty military personnel, Air Force civilian employees, or contractors, Air Force Reserve and Air National Guard personnel, Army, Navy, Marine Corps and foreign military personnel who are assigned to aviation or parachutist duties by competent authority and attached to the U.S. Air Force (USAF) for flying or parachutist support or who have been suspended from flying or jump duties for a period of not more than 5 years.

Categories of records in the system:

The Aviation Resource Management System (ARMS) data base contains a master file of flying and jump records for each individual, a month-to-date transaction file, a twelve month history file, and a career flying and jump history. A centralized file of output reports that provide personnel information on an aircrew member's aviation history, flight time and identification data, is derived from each individual's master record and is also maintained at Headquarters United States Air Force.

An Individual Flight Record Folder (FRF) or Jump Record Folder (JRF) is established for each category of flier and jumper listed above and is the prime repository for a computer listing which itemizes each individual's flight and jump accomplishments as well as various source documents which serve to validate information entered into the computer data base for the system. Each Host Aviation Resource Management (HARM) office maintains a file of Aeronautical Orders and Military Pay Orders to provide source documentation of flying pay actions initiated by the flight manager. Information that is maintained in the automated files is derived directly from the ARMS master file or from subsequent processing of information entered into the master file.

Identification data consists of:

Name, Social Security Number (SSN), date of birth, rank, date of rank, date of separation, Officer Service date, aviation service date, date of enlistment, and unit of assignment for each individual in the Aviation Resource Management System.

Duty assignment data:

Individual's major command of assignment, Air Force specialty code indicating professional duties, unit, responsible operations system manager, base of assignment, branch of service and office symbol.

Aircrew training and qualification data:

Flight and ground professional flying training accomplishments, aircrew qualification status, physical status for flight duties, types of aircraft assigned.

Flying pay entitlement data:

Monthly flight time, aviation service code, operational flying duty accumulation (OFDA) months and years of rated service collectively to determine flight pay entitlement and to administer the payment of flying incentive pay for authorized individuals.

Authority for maintenance of the system:

37 U.S.C. 301a, Incentive Pay: aviation career; Public Law 92-204, Appropriations Act for 1973; Section 715 Public Law 93-570, Appropriations Act for 1974; Public Law 93-294, Aviation Career Incentive Act of 1974; DoD Instruction 7730.57, Aviation Incentive Pays and Continuation Bonus Program; and E.O. 9397 (SSN), as amended.

Purpose(s):

The ARMS provides information and automated data processing capabilities used to handle and administer Air Force aviation and parachutist management operations such as aircrew and parachutist training and evaluation, flight and jump scheduling functions, flying and parachutist safety and related functions needed to attain and maintain combat or mission readiness. This information is processed for use by flying or parachutist resource managers at all levels through periodic computer product reports or automated systems interfaces.

The specific uses of information and user categories for this system are:

Base Level Activities: (1) To establish each member's flying or jump pay entitlement status and to monitor continuing entitlement in accordance with existing directives;

(2) To record each individual's flying or jump activities to include hours, jumps, and specific events, and to provide indications of successful achievement of standards or deficiencies;

(3) To establish each individual's Aviation Service code to indicate type of flying or jump activity or reason for inactive status if applicable;

(4) To determine each rated member's eligibility to perform operational flying or jumping in accordance with existing USAF directives;

(5) To provide an indication of each rated member's total operational flying time in terms of total aviation or parachutist career duties;

(6) To establish suspense lists for use in scheduling flying personnel for flights, schools, tests and similar events directly related to their duties as professional Airmen;

(7) To provide each applicable individual and manager with all aviation career profile information needed to monitor flying career development, professional qualifications, and training deficiencies;

(8) To provide information requested by the Air Force Staff, major command, or other base functions, related to the flying duties and accomplishments of all personnel in the file;

(9) To provide statistical data for management analysis and review of all aspects of each base's flying program.

Other Base Users: Military personnel flight uses information provided by this system, through an automated data interface, to report the flying status of all individuals and to provide flying career background information used for assignment actions.

Accounting and Finance Office uses Military Pay Orders, prepared by flight aviation management offices, to start and stop flying and jump incentive pay in accordance with each individual's flying status and eligibility as reflected by the information in the system and uses the files to perform payment audits to identify individuals being paid improperly.

Base supply uses flying status information to determine which individuals are qualified to receive authorized flying and jump equipment.

Base Medical Facility uses system data to determine projected workloads associated with scheduled flight physical examinations.

Major Commands use all system data to measure the effectiveness of subordinate unit training programs and to review command-wide flying effectiveness.

Air Force Personnel Center uses ARMS information to satisfy assignment objectives and career development programs for USAF military personnel in the system.

HQ USAF uses identification and flying data to establish statistical data needed to verify the effectiveness of standard procedures, determine the need for policy modification, provide a timely and accurate census of various types of flyers and jumpers, and provide a centralized point for collection and collation of data used by all levels of management.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the Air Force's compilation of record system notices apply to this record system.

Policies and practices for storing, retrieving, accessing, retaining, and disposing of records in the system:

Storage:

File folders and electronic storage media.

Retrievability:

Retrieved by name and Social Security Number (SSN).

Safeguards:

Records are accessed by custodians of the record system, by person(s) responsible for servicing the record system in performance of their official duties and by authorized personnel who are properly screened and cleared for need-to-know. Access is specifically controlled by the HARM office. Records are stored in locked cabinets or rooms. Records stored in computer storage devices are protected by computer system software. Computer terminals are locked when not in use or kept under surveillance.

Retention and disposal:

Electronic records are maintained on magnetic disks and destroyed 8 years after system discontinuance. If a disk is damaged or replaced, the drive is rendered unusable by being degaussed. Physical records are released to members upon retirement or separation. Members hand-carry their physical record, during permanent change of stations, to the gaining HARM while an electronic copy is retained by the losing HARM and set to automatically delete after 30 days. Physical records are turned over to convening authorities following aircraft accidents and are either returned to the HARM or retained in accordance with rules of evidence.

System manager(s) and address:

Chief, Operational Training Division, Directorate of Operations and Training, Deputy Chief of Staff/Air and Space Operations, 1480 Air Force Pentagon, Washington, DC 20330-1480.

Notification procedure:

Individuals seeking to determine whether this system of records contains information on themselves should address written inquires to or visit the Chief, Operational Training Division, Directorate of Operations and Training, Deputy Chief of Staff/Air and Space Operations, 1480 Air Force Pentagon, Washington, DC 20330-1480 or visit their local HARM office. Official mailing addresses are published as an appendix to the Air Force's compilation of systems of records notices.

Requests should contain individual's name and Social Security Number (SSN).

Record access procedures:

Individuals seeking to access records about themselves contained in this system should address written requests to the Chief, Operational Training Division, Directorate of Operations and Training, Deputy Chief of Staff/Air and Space Operations, 1480 Air Force Pentagon, Washington, DC 20330-1480 or visit their local HARM office. Official mailing addresses are published as an appendix to the Air Force's compilation of systems of records notices.

Requests should contain individual's name and Social Security Number (SSN).

Contesting record procedures:

The Air Force rules for accessing records, and for contesting contents and appealing initial agency determinations are published in Air Force Instruction 37-132; 32 CFR part 806b; or may be obtained from the system manager.

Record source categories:

Information obtained from individuals, aircrew or parachutist managers, automated system interfaces and from source documents such as reports.

Exemptions claimed for the system:

None.

[FR Doc. 2011-4930 Filed 3-3-11; 8:45 am]

BILLING CODE 5001-06-P